DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by March 10, 2003.

Title and OMB Number: Defense Acquisition Regulation Supplement (DFARS) Part 243, Contract Modification and related clause at DFARS 252.243-7002; OMB Number 0704-0397.

Type of Request: Extension of a Currently Approved Collection

Number of Respondents: 440

Responses Per Respondent: 1

Annual Responses: 440

Average Burden Per Response: 4.8 hours (average)

Annual Burden Hours: 2,120

Needs and Uses: This request concerns information collection requirements related to certification of contractor requests for equitable adjustment.

Affected Public: Business or Other Not-For-Profit and Not-for-Profit Institutions

Frequency: On Occasion

Respondent's Obligation: Required to Obtain or Retain Benefits

OMB Desk Officer: Ms. Jacqueline Zeiher

Written comments and recommendations on the proposed information collection should be sent to Ms. Zeiher at the Office of Management and Budget, Desk Officer for DoD, Room 10236, New Executive Office Building, Washington, DC 20503.

DOD Clearance Officer: Mr. Robert Cushing

Written requests for copies of the information collection proposal should be sent to Mr. Cushing, WHS/DIOR, 1215 Jefferson Davis Highway, Suite 1204, Arlington, VA 22202-4302.

Dated: February 3, 2003.
Patricia L. Toppings,
Alternate OSD Federal Register Liaison Officer, Department of Defense.

[FR Doc. 03-2976 Filed 2-6-03; 8:45 am]

BILLING CODE 5001-08-M